DEPARTMENT OF JUSTICE

Antitrust Division

Notice Pursuant to the National Cooperative Research and Production Act of 1993—Pistoia Alliance, Inc.

Notice is hereby given that, on May 28, 2009, pursuant to Section 6(a) of the National Cooperative Research and Production Act of 1993, 15 U.S.C. 4301 et seq. (“the Act”), Pistoia Alliance, Inc. has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Novartis Institutes for BioMedical Research, Inc., Cambridge, MA; AstraZeneca UK Limited, Westminster, London, UNITED KINGDOM; Glaxo Group, Ltd., Brentford, Middlesex, UNITED KINGDOM; Pfizer, Inc., New York, NY; Accelrys Inc., San Diego, CA; ChemlTment, Amston, CT; ChemAxon Ltd., Budapest, HUNGARY; BioXpr, Namur, BELGIUM; The Edge Software Consultancy Ltd., Guildford, Surrey, UNITED KINGDOM; and GGA Software Services LLC, Cambridge, MA.

The general area(s) of Pistoia Alliance, Inc.'s planned activity are to: (a) Streamline non-competitive elements of the pharmaceutical drug discovery workflow by the specification of common business terms, relationships and processes and to facilitate the development and adoption of open, accessible data standards, taxonomies, ontologies and Web-service descriptions (the “Specifications”); (b) promote such specifications and solutions worldwide; (c) provide for testing and conformity assessment of implementations in order to ensure and/or facilitate compliance with Specifications; (d) operate a branding program based upon distinctive trademarks to create high customer awareness of, demand for, and confidence in products designed in compliance with Specifications; and (e) undertake such other activities as may from time to time be appropriate to further the purposes and achieve the goals set forth above.

Patricia A. Brink,
Deputy Director of Operations, Antitrust Division.

[FR Doc. E9-16697 Filed 7-14-09; 8:45 am]

BILLING CODE 4410-11-M